DEPARTMENT OF ENERGY

Federal Energy Regulatory Commission

Combined Notice of Filings #1

Take notice that the Commission received the following electric corporate filings:

Docket Numbers: EC15-61-000.

Applicants: Malaga Power, LLC.

Description: Application for Authorization for Consolidation of Jurisdictional Facilities and Acquisition of an Existing Generation Facility and Request for Expedited Action of Malaga Power, LLC.

Filed Date: 1/21/15.

Accession Number: 20150121-5142.

Comments Due: 5 p.m. ET 2/11/15.

Take notice that the Commission received the following exempt wholesale generator filings:

Docket Numbers: EG15-43-000.

Applicants: Recurrent Energy, LLC.

Description: Self-Certification of RE Roserock LLC of Exempt Wholesale Generator Status.

Filed Date: 1/21/15.

Accession Number: 20150121-5084.

Comments Due: 5 p.m. ET 2/11/15.

Take notice that the Commission received the following electric rate filings:

Docket Numbers: ER10-1342-003; ER10-1344-002; ER11-3051-002.

Applicants: CP Energy Marketing (US) Inc., CPI USA North Carolina LLC, Macho Springs Power I, LLC.

Description: Notice of Change in Status of the Capital Power Corporation Entities.

Filed Date: 1/20/15.

Accession Number: 20150120-5602.

Comments Due: 5 p.m. ET 2/10/15.

Docket Numbers: ER10-1577-002.

Applicants: Dogwood Energy LLC.

Description: Notice of Change in Status of Dogwood Energy LLC.

Filed Date: 1/20/15.

Accession Number: 20150120-5626.

Comments Due: 5 p.m. ET 2/10/15.

Docket Numbers: ER10-2984-019.

Applicants: Merrill Lynch Commodities, Inc.

Description: Notice of Change in Status of Merrill Lynch Commodities, Inc.

Filed Date: 1/20/15.

Accession Number: 20150120-5651.

Comments Due: 5 p.m. ET 2/10/15.

Docket Numbers: ER10-3300-008.

Applicants: La Paloma Generating Company, LLC.

Description: Notice of Change in Status of La Paloma Generating Company, LLC.

Filed Date: 1/20/15.

Accession Number: 20150120-5650.

Comments Due: 5 p.m. ET 2/10/15.

Docket Numbers: ER12-1179-021.

Applicants: Southwest Power Pool, Inc.

Description: Compliance filing per 35: Integrated Marketplace Compliance Filing in Docket No. ER12-1179-020 to be effective 3/1/2014.

Filed Date: 1/20/15.

Accession Number: 20150120-5543.

Comments Due: 5 p.m. ET 2/10/15.

Docket Numbers: ER12-1901-001.

Applicants: GenOn Power Midwest, LP.

Description: eTariff filing per 35.19a(b): Refund Report—Informational Filing to be effective N/A.

Filed Date: 1/21/15.

Accession Number: 20150121-5125.

Comments Due: 5 p.m. ET 2/11/15.

Docket Numbers: ER13-1487-005; ER13-1489-006; ER13-1488-004.

Applicants: Quantum Auburndale Power, LP.

Description: Notice of Non-Material Change in Status of the Quantum Entities.

Filed Date: 1/20/15.

Accession Number: 20150120-5633.

Comments Due: 5 p.m. ET 2/10/15.

Docket Numbers: ER15-63-000.

Applicants: PJM Interconnection, L.L.C., American Transmission Systems, Incorporated, Pennsylvania Electric Company, The Potomac Edison Company.

Description: eTariff filing per 35.19a(b): ATSI, et al. submits Refund Report Under Docket No. ER15-63-000 to be effective N/A.

Filed Date: 1/20/15.

Accession Number: 20150120-5507.

Comments Due: 5 p.m. ET 2/10/15.

Docket Numbers: ER15-502-001.

Applicants: Bayou Cove Peaking Power, LLC.

Description: Tariff Amendment per 35.17(b): Revised Cost Support to be effective 2/1/2015.

Filed Date: 1/21/15.

Accession Number: 20150121-5165.

Comments Due: 5 p.m. ET 2/11/15.

Docket Numbers: ER15-877-000.

Applicants: Entergy Nuclear Vermont Yankee, LLC.

Description: Errata to January 20, 2015 Entergy Nuclear Vermont Yankee, LLC tariff filing.

Filed Date: 1/20/15

Accession Number: 20150120-5632.

Comments Due: 5 p.m. ET 2/10/15.

Docket Numbers: ER15-884-000.

Applicants: Midcontinent Independent System Operator, Inc., ITC Midwest LLC.

Description: § 205(d) rate filing per 35.13(a)(2)(iii): 2015-01-21_SA 2728 MidAmerican-ITC Midwest FSA (H021) to be effective 1/31/2015.

Filed Date: 1/21/15.

Accession Number: 20150121-5082.

Comments Due: 5 p.m. ET 2/11/15.

Docket Numbers: ER15-885-000.

Applicants: Northern States Power Company, a Minnesota corporation.

Description: § 205(d) rate filing per 35.13(a)(2)(iii): 2015-1-21_NSP-AIM-GIA & Dist Wheeling Filing to be effective 12/1/2014.

Filed Date: 1/21/15.

Accession Number: 20150121-5128.

Comments Due: 5 p.m. ET 2/11/15.

Docket Numbers: ER15-886-000.

Applicants: PJM Interconnection, L.L.C., American Electric Power Service Corporation.

Description: § 205(d) rate filing per 35.13(a)(2)(iii): AEP submits 11th Revised Service Agreement No. 1262 to be effective 1/1/2015.

Filed Date: 1/21/15.

Accession Number: 20150121-5166.

Comments Due: 5 p.m. ET 2/11/15.

Docket Numbers: ER15-887-000.

Applicants: PJM Interconnection, L.L.C., American Electric Power Service Corporation.

Description: § 205(d) rate filing per 35.13(a)(2)(iii): AEP submits 45th Revised Service Agreement No. 1336 to be effective 1/1/2015.

Filed Date: 1/21/15.

Accession Number: 20150121-5172.

Comments Due: 5 p.m. ET 2/11/15.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 21, 2015.
Nathaniel J. Davis, Sr.,
Deputy Secretary.

[FR Doc. 2015-01443 Filed 1-27-15; 8:45 am]

BILLING CODE 6717-01-P